DEPARTMENT OF TRANSPORTATION

Federal Aviation Administration

Office of Commercial Space Transportation; Notice of Availability of the Final Environmental Assessment (EA) and Finding of No Significant Impact (FONSI) for the Jacksonville Aviation Authority (JAA) Launch Site Operator License at Cecil Field, Florida (FL)

AGENCY: Federal Aviation Administration (FAA), Department of Transportation.

ACTION: Notice of Availability of Final EA and FONSI.

SUMMARY: In accordance with the National Environmental Policy Act of 1969, as amended (NEPA) (42 U.S.C. 4321 et seq.), Council on Environmental Quality NEPA implementing regulations (40 CFR Parts 1500-1508), and FAA Order 1050.1E, Change 1, the FAA is announcing the availability of the Final EA and FONSI for the Jacksonville Aviation Authority (JAA) Launch Site Operator License at Cecil Field, FL.

The EA was prepared in response to an application for a Launch Site Operator License from JAA. Under the Proposed Action, the FAA would issue a Launch Site Operator License to JAA to operate a facility for horizontal launches and landings of suborbital, manned reusable launch vehicles (RLVs). These vehicles, when operated out of Cecil Field, could carry space flight participants, scientific experiments, or payloads. The proposed launch site is located within the city limits of the City of Jacksonville, FL in Duval County, approximately 15 miles southwest of downtown Jacksonville. The EA addresses the potential environmental impacts of implementing the Proposed Action and the No Action Alternative of not issuing a Launch Site Operator License to JAA.

The FAA has posted the Final EA and FONSI on the Internet at http://ast.faa.gov. In addition, CDs of the EA and FONSI were sent to persons and agencies on the distribution list (found in Chapter 7 of the EA). A paper copy and a CD version of the EA and FONSI will be made available for review at the following locations:

Jacksonville Public Library—Argyle Branch, 7973 Old Middleburg Road South, Jacksonville, FL 32222.

Jacksonville Public Library—Webb Wesconnett Regional, 6887 103rd Street, Jacksonville, FL 32210.

Jacksonville Public Library—West Regional, 1425 Chaffee Road South, Jacksonville, FL 32221.

Jacksonville Public Library—Main Branch, 303 N Laura St, Jacksonville, FL 32202.

Green Cove Springs Library, 403 Ferris St., Green Cove Springs, FL 32043.

Additional Information: Under the Proposed Action, the FAA would issue a Launch Site Operator License to JAA that would allow them to operate Cecil Field for horizontal suborbital RLV launches. JAA has identified two types of horizontally launched RLVs, Concept X and Concept Z, which are considered typical vehicles that would be launched from Cecil Field. The RLVs would launch and land on Runway 18L-36R, the primary north-south runway at Cecil Field. Both proposed RLVs would take-off from Cecil Field under jet power. Rocket operations would occur in a designated offshore area, approximately 60 miles east of the Florida coast. The RLVs would return to Cecil Field as maneuverable gliders.

JAA proposes to use Cecil Field's existing infrastructure, such as hangars, control tower, and runways for commercial space launch operations. Therefore, JAA does not anticipate new construction activities at Cecil Field related to the proposed spaceport.

The only alternative to the Proposed Action analyzed in the EA is the No Action Alternative. Under this alternative, the FAA would not issue a Launch Site Operator License to JAA, and there would be no commercial space launches from Cecil Field. The site would continue to be available for existing general aviation and training-related activities.

A wide-array of resource areas were considered to provide a context for understanding and assessing the potential environmental effects of the Proposed Action, with attention focused on key issues. The resource areas considered included climate and air quality; coastal resources; compatible land use; Department of Transportation Act: Section 4(f) resources; farmlands; fish, wildlife, and plants; floodplains; hazardous materials, pollution prevention, and solid waste; historical, architectural, archaeological, and cultural resources; light emissions and visual resources; natural resources, energy supply, and sustainable design; noise; socioeconomics; water quality; wetlands; wild and scenic rivers; children's environmental health and safety risks; environmental justice; construction impacts; secondary (induced) impacts; airports/airport users; airspace; transportation; and cumulative impacts.

The FAA published a Notice of Availability of the Draft Final EA and FONSI in the Federal Register on April 21, 2009. The FAA hosted a public meeting during the comment period, on May 14, 2009 in Jacksonville, Florida during which members of the public, organizations, tribal groups, and government agencies had the opportunity to provide oral or written comments on the Draft EA. Two members of the public provided comments during the meeting. The public comment period ended on May 20, 2009. One written comment was received during the public comment period. The Final EA responds to all substantive comments and includes any changes or edits resulting from the comments received.

FOR FURTHER INFORMATION CONTACT: Mr. Daniel Czelusniak, Environmental Specialist, Office of Commercial Space Transportation, Federal Aviation Administration, 800 Independence Avenue, SW., Room 331, Washington, DC 20591, telephone (202) 267-5924; E-mail daniel.czelusniak@faa.gov.

Issued in Washington, DC on June 29, 2009.
Michael McElligott,
Manager, Space Systems Development Division.

[FR Doc. E9-15872 Filed 7-2-09; 8:45 am]

BILLING CODE 4910-13-P